NUCLEAR REGULATORY COMMISSION

[NRC-2012-0002]

Sunshine Federal Register Notice

AGENCY HOLDING THE MEETINGS: Nuclear Regulatory Commission.

DATE: Week of November 5, 2012.

PLACE: Commissioners' Conference Room, 11555 Rockville Pike, Rockville, Maryland.

STATUS: Public and Closed.

ADDITIONAL ITEMS TO BE CONSIDERED:

Week of November 5, 2012

Thursday, November 8, 2012

9:00 a.m. Affirmation Session (Public Meeting) (Tentative).

Southern California Edison Co. (San Onofre Nuclear Generating Station), Docket Nos. 50-361 and 50-362-CAL, Petition to Intervene, Request for Hearing, and Stay Application (June 18, 2012) (Tentative).

This meeting will be webcast live at the Web address— www.nrc.gov.

* * * * *

* The schedule for Commission meetings is subject to change on short notice. To verify the status of meetings, call (recording)—(301) 415-1292. Contact person for more information: Rochelle Bavol, (301) 415-1651.

* * * * *

Additional Information

The Affirmation session, Southern California Edison Co. (San Onofre Nuclear Generating Station), Docket Nos. 50-361 and 50-362-CAL, Petition to Intervene, Request for Hearing, and Stay Application (June 18, 2012), previously scheduled on October 30, 2012, was postponed, and has been rescheduled on November 8, 2012.

* * * * *

The NRC Commission Meeting Schedule can be found on the Internet at: www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: November 7, 2012.
Rochelle C. Bavol,
Policy Coordinator, Office of the Secretary.

[FR Doc. 2012-27624 Filed 11-8-12; 11:15 am]

BILLING CODE 7590-01-P